DEPARTMENT OF COMMERCE

International Trade Administration

[C-489-843]

Prestressed Concrete Steel Wire Strand From the Republic of Turkey: Countervailing Duty Order

AGENCY: Enforcement and Compliance, International Trade Administration, Department of Commerce

SUMMARY: Based on affirmative final determinations by the Department of Commerce (Commerce) and the International Trade Commission (ITC), Commerce is issuing a countervailing duty order on prestressed concrete steel wire strand (PC strand) from the Republic of Turkey (Turkey).

DATES: Applicable February 3, 2021.

FOR FURTHER INFORMATION CONTACT: Jacob Garten at (202) 482-3342, AD/CVD Operations, Enforcement and Compliance, U.S. Department of Commerce, 1401 Constitution Avenue NW, Washington, DC 20230.

SUPPLEMENTARY INFORMATION:

Background

On December 11, 2020, Commerce published its affirmative final determination in the countervailing duty investigation of PC Strand from Turkey.¹ On January 25, 2021, the ITC notified Commerce of its final determination, pursuant to sections 705(b)(1)(A)(i) and 705(d) of the Tariff Act of 1930, as amended (the Act), that an industry in the United States is materially injured by reason of subsidized imports of PC strand from Turkey.²

¹ See Prestressed Concrete Steel Wire Strand from the Republic of Turkey: Final Affirmative Countervailing Duty Determination and Final Negative Critical Circumstances Determination, 85 FR 80005 (December 11, 2020) (Final Determination).

² See ITC's Letter, “Notification of ITC Final Determinations,” dated January 25, 2021 (ITC Notification Letter).

Scope of the Order

The scope of the investigation is PC strand from Turkey. For a complete description of the scope of this order, see the appendix to this notice.

Countervailing Duty Order

On January 25, 2021, in accordance with sections 705(b)(1)(A)(i) and 705(d) of the Act, the ITC notified Commerce of its final determination in this investigation, in which it found that an industry in the United States s materially injured by reason of imports of PC strand from Turkey.³ As a result, and in accordance with sections 705(c)(2) and 706 of the Act, we are issuing this countervailing duty order. Because the ITC determined that imports of PC strand from Turkey are materially injuring a U.S. industry, unliquidated entries of such merchandise from Turkey, entered or withdrawn from warehouse for consumption, are subject to the assessment of countervailing duties.

³ See ITC Notification Letter.

Countervailing duties will be assessed on unliquidated entries of PC strand from Turkey entered, or withdrawn from warehouse, for consumption on or after September 21, 2020, the date of publication of the Preliminary Determination,⁴ but will not include entries occurring after the expiration of the provisional measures period and before the publication of the ITC's final injury determination under section 705(b) of the Act, as further described below.

⁴ See Prestressed Concrete Steel Wire from the Republic of Turkey: Preliminary Affirmative Countervailing Duty Determination, Preliminary Affirmative Critical Circumstances Determination, in Part, 85 FR 59287 (September 21, 2020) (Preliminary Determination).

Suspension of Liquidation and Cash Deposits

In accordance with section 706 of the Act, Commerce will direct CBP to suspend liquidation of PC strand from Turkey, as described in the appendix to this notice, effective on the date of publication of the ITC's notice of final determination in the Federal Register, and to assess, upon further instruction by Commerce, pursuant to section 706(a)(1) of the Act, countervailing duties for each entry of the subject merchandise in an amount based on the net countervailable subsidy rate for the subject merchandise. On or after the publication of the ITC's final injury determination in the Federal Register, CBP must require, at the same time as importers would normally deposit estimated import duties on this merchandise, cash deposits for each entry of subject merchandise equal to the rates noted below. These instructions suspending liquidation will remain in effect until further notice.

Company | Subsidy rate (percent)
Celik Halat ve Tel San A.S.⁵ | 158.44
Guney Celik Hasir ve Demir | 30.78
All Others ⁶ | 94.61

Provisional Measures

⁵ Commerce found the following companies to be cross-owned with Celik Halat: Dogan Sirketler Grubu Holding A.S. and Adilbey Holding A.S. See Final Determination, 85 FR at 80006 n.8.

⁶ The all-others rate applies to all other producers or exporters not specifically listed.

Section 703(d) of the Act states that instructions issued pursuant to an affirmative preliminary determination may not remain in effect for more than four months. In the underlying investigation, Commerce published the Preliminary Determination on September 21, 2020. As such, the four-month period beginning on the date of the publication of the Preliminary Determination ended on January 19, 2021. Furthermore, section 707(b) of the Act states that definitive duties are to begin on the date of publication of the ITC's final injury determination.

Therefore, in accordance with section 703(d) of the Act, we will instruct CBP to terminate the suspension of liquidation and to liquidate, without regard to countervailing duties, unliquidated entries of PC strand from Turkey, entered, or withdrawn from warehouse, for consumption, on or after January 20, 2021, the date on which the provisional measures expired, until and through January 28, 2021, the day preceding the date of publication of the ITC's final injury determination in the Federal Register.⁷ Suspension of liquidation will resume on January 29, 2021, the date of publication of the ITC's final determination in the Federal Register.

⁷ See Prestressed Concrete Steel Wire Strand from Argentina, Colombia, Egypt, Netherlands, Saudi Arabia, Taiwan, Turkey, and the United Arab Emirates; Determinations, 86 FR 7564 (January 29, 2021).

Notifications to Interested Parties

This notice constitutes the countervailing duty order with respect to PC strand from Turkey, pursuant to section 706(a) of the Act. Interested parties can find a list of countervailing duty orders currently in effect at http://enforcement.trade.gov/stats/iastats1.html. This order is published in accordance with section 706(a) of the Act and 19 CFR 351.211(b).

Dated: January 29, 2021.
Christian Marsh,
Acting Assistant Secretary for Enforcement and Compliance.

Appendix—Scope of the Order

The merchandise covered by this order is prestressed concrete steel wire strand (PC strand), produced from wire of non-stainless, non-galvanized steel, which is suitable for use in prestressed concrete (both pretensioned and post-tensioned) applications. The product definition encompasses covered and uncovered strand and all types, grades, and diameters of PC strand. PC strand is normally sold in the United States in sizes ranging from 0.25 inches to 0.70 inches in diameter. PC strand made from galvanized wire is only excluded from the scope if the zinc and/or zinc oxide coating meets or exceeds the 0.40 oz./ft2 standard set forth in ASTM-A-475.

The PC strand subject to this order is currently classifiable under subheadings 7312.10.3010 and 7312.10.3012 of the Harmonized Tariff Schedule of the United States (HTSUS). Although the HTSUS subheadings are provided for convenience and customs purposes, the written description of the scope of this order is dispositive.

[FR Doc. 2021-02335 Filed 2-2-21; 8:45 am]

BILLING CODE 3510-DS-P